SMALL BUSINESS ADMINISTRATION

Data Collection Available for Public Comments

ACTION: 60-Day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before March 25, 2025.

ADDRESSES: Send all comments to Donna Fudge, Procurement Analyst, donna.fudge@sba.gov, Office of Policy, Planning, and Liaison, Small Business Administration, 409 3rd Street, Washington, DC 20416.

FOR FURTHER INFORMATION CONTACT: Donna Fudge, Procurement Analyst, donna.fudge@sba.gov, 202-205-6363, Small Business Administration. Curtis B. Rich, Agency Clearance Officer, curtis.rich@sba.gov 202-205-7030.

SUPPLEMENTARY INFORMATION: SBA is updating its information collection titled “Information on Small Business Size Determination.”

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: 3245-0101.

Title: Information for Small Business Size Determination.

Description of Respondents: Respondents are businesses claiming to be small for purposes of government contracting and business development programs. SBA uses this form for size protests, size determinations, to assist program offices in determining eligibility for small business programs, and to determine a firm is small to issue a Certificate of Competency.

Form Number: SBA Form 355.

Total Estimated Annual Responses: 450.

Total Estimated Annual Hour Burden: 1,800.

Curtis B. Rich,
Agency Clearance Officer.

[FR Doc. 2025-01679 Filed 1-23-25; 8:45 am]

BILLING CODE 8026-09-P